ENVIRONMENTAL PROTECTION AGENCY

[FRL-8944-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information request unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1976.04; NESHAP for Reinforced Plastic Composites Production (40 CFR part 63, subpart WWWW) (Renewal); was approved on 07/15/2009; OMB Number 2060-0509; expires on 07/31/2012; OMB decision—Approved without change.

EPA ICR Number 2022.04; NESHAP for Brick and Structural Clay Manufacturing (CFR 40 part 63, subpart JJJJJ) (Renewal); was approved on 07/15/2009; OMB Number 2060-0508; expires on 07/31/2012; OMB decision—Approved without change.

EPA ICR Number 1954.04; NESHAP for the Surface Coating of Large Household and Commercial Appliances (40 CFR part 63, subpart NNNN) (Renewal); was approved on 07/15/2009; OMB Number 2060-0457; expires on 07/31/2012; OMB decision—Approved without change.

EPA ICR Number 1951.04; NESHAP for Paper and Other Web Coating (40 CFR part 63, subpart JJJJ) (Renewal); was approved on 07/15/2009; OMB Number 2060-0511; expires on 07/31/2012; OMB decision—Approved without change.

EPA ICR Number 1285.07; Nonconformance Penalties for Heavy-Duty Engines and Heavy-Duty Vehicles, including Light-Duty Trucks (40 CFR part 86, subpart L) (Renewal); was approved on 07/20/2009; OMB Number 2060-0132; expires on 07/31/2012; OMB decision—Approved without change.

EPA ICR Number 0161.11; Foreign Purchaser Acknowledgment Statement of Unregistered Pesticides; 40 CFR part 168, subpart D; was approved on 07/22/2009; OMB Number 2070-0027; expires on 07/31/2012; OMB decision—Approved without change.

EPA ICR Number 0596.09; Application and Summary Report for Emergency Exemption for Pesticides; 40 CFR part 166; was approved on 07/23/2009; OMB Number 2070-0032; expires on 07/31/2012; OMB decision—Approved without change.

EPA ICR Number 1852.04; Exclusion Determinations for New Non-road Spark-ignited Engines, New Non-road Compression-ignited Engines, and New On-road Heavy Duty Engines (Renewal); 40 CFR part 85, subpart R, 40 CFR part 89, subpart J, 40 CFR part 90, subpart J, 40 CFR part 91, subpart K, 40 CFR part 94, subpart J, 40 CFR 1039.5, 40 CFR 1048.5, 40 CFR 1051.5, 40 CFR part 1068, subpart C and 40 CFR part 92, subpart J; was approved on 07/27/2009; OMB Number 2060-0395; expires on 07/31/2012; OMB decision—Approved without change.

EPA ICR Number 0277.15; Application for New and Amended Pesticide Registration (Renewal); 40 CFR part 158; was approved on 07/29/2009; OMB Number 2070-0060; expires on 07/31/2012; OMB decision—Approved without change.

EPA ICR Number 2164.03; Emission Guidelines for Existing Other Solid Waste Incineration (OSWI) Units (40 CFR part 60, subpart FFFF) (Renewal); was approved on 07/29/2009; OMB Number 2060-0562; expires on 07/31/2012; OMB decision—Approved without change.

EPA ICR Number 2104.03; Brownfields Programs—Revitalization Grantee Reporting (Renewal); 40 CFR parts 30-31; was approved on 07/29/2009; OMB Number 2050-0192; expires on 07/31/2012; OMB decision—Approved without change.

EPA ICR Number 1989.06; NPDES Permit Regulations and Effluent Limitation Guidelines for Concentrated Animal Feeding Operations (Final Rule); 40 CFR parts 122, 123 and 412; was approved on 07/29/2009; OMB Number 2040-0250; expires on 07/31/2012; OMB decision—Approved without change.

EPA ICR Number 2042.04; NESHAP for Semiconductor Manufacturing (40 CFR part 63, Subpart BBBBB)(Renewal); was approved on 07/31/2009; OMB Number 2060-0519; expires on 07/31/2012; OMB decision—Approved without change.

Comment Filed

EPA ICR Number 2332.01; NESHAP for Aluminum, Copper, and Other Nonferrous Foundries (Proposed Rule); in 40 CFR part 63, subpart A, 40 CFR part 63, subpart ZZZZZZ; OMB filed comment on 07/27/2009.

EPA ICR Number 2313.01; Ambient Ozone Monitoring Regulations: Revisions to Network Design Requirements; OMB filed comment on 07/27/2009.

Withdrawn and Continue

EPA ICR Number 2306.01; Environmental and Economic Effects of Alternative Dispute Resolution at the EPA; Withdrawn from OMB on 07/23/2009.

Dated: August 6, 2009.
John Moses,
Director, Collections Strategies Division.

[FR Doc. E9-19307 Filed 8-11-09; 8:45 am]

BILLING CODE 6560-50-P